DEPARTMENT OF HOMELAND SECURITY

Coast Guard

[Docket No. USCG-[USCG-2021-0042]]

Revisions to Maritime Security Directive 104-6; Guidelines for U.S. Vessels Operating in High Risk Waters

AGENCY: Coast Guard, DHS.

ACTION: Notice of availability.

SUMMARY: The Coast Guard announces the availability of Revision 8 to Maritime Security (MARSEC) Directive 104-6, which provides guidelines for U.S. vessels operating in high-risk waters (HRW) where acts of terrorism, piracy, and armed robbery against ships are prevalent. The directive contains security-sensitive information and, therefore, cannot be made available to the general public. U.S. vessel owners and operators who have needed to take action under previous versions of MARSEC Directive 104-6 should immediately contact their local Coast Guard Captain of the Port or District Commander for a copy of Revision 8. This revision contains important updates to HRW locations and organizational responsibilities regarding addressing security risks in those waters.

DATES: MARSEC Directive 104-6 (Revision 8) has been available since August 11, 2021. MARSEC Directive 104-6 (Revision 7) is no longer valid after that date.

FOR FURTHER INFORMATION CONTACT: For information about this document call or email LCDR Michael Metz; U.S. Coast Guard, Office of Commercial Vessel Compliance; telephone 202-372-1236, email cvc.uscg@uscg.mil.

SUPPLEMENTARY INFORMATION: Maritime Security (MARSEC) Directive 104-6 Revision 8 replaces Revision 7, previously signed on March 4, 2014. The new directive provides direction to U.S. flagged vessels operating in High Risk Waters (HRW) where acts of terrorism, piracy, and armed robbery against ships are prevalent. This revision reflects a change in organizational responsibilities and updates the list of regions identified as HRW.

U.S. vessel owners and operators who have needed to take action under previous versions of MARSEC Directive 104-6 should immediately contact their local Coast Guard Captain of the Port or District Commander for a copy of Revision 8, which contains important updates to the locations of HRW and to the guidelines for addressing security risks in those waters. The Coast Guard advises owners and operators that, under Revision 8, they may need to take specific actions in accordance with MARSEC Directive 104-6 before their vessel enters HRW.

This notice is issued under authority of 33 CFR 101.405(a)(2) and 5 U.S.C. 552(a).

Dated: August 23, 2021.
W.R. Arguin,
Captain, U.S. Coast Guard, Director of Inspections and Compliance.

[FR Doc. 2021-18391 Filed 8-25-21; 8:45 am]

BILLING CODE 9110-04-P